DEPARTMENT OF THE INTERIOR

Bureau of Land Management

[LLWYP00000-L51100000-GA0000-LVEMK09CK370; WYW176095]

Notice of Availability of the Record of Decision for the Wright Area South Porcupine Coal Lease-by-Application and Environmental Impact Statement, Wyoming

AGENCY: Bureau of Land Management, Interior.

ACTION: Notice of availability.

SUMMARY: In accordance with the National Environmental Policy Act of 1969, as amended, the Bureau of Land Management (BLM) announces the availability of the Record of Decision (ROD) for the South Porcupine Coal Lease-by-Application (LBA) included in the Wright Area Coal Lease Applications Environmental Impact Statement (EIS).

ADDRESSES: The document is available electronically on the following Web site: http://www.blm.gov/wy/st/en/info/NEPA/HighPlains/Wright-Coal.html. Paper copies of the ROD are also available at the following BLM office locations:

• Bureau of Land Management, Wyoming State Office, 5353 Yellowstone Road, Cheyenne, Wyoming 82009; and

• Bureau of Land Management, Wyoming High Plains District Office, 2987 Prospector Drive, Casper, Wyoming 82604.

FOR FURTHER INFORMATION CONTACT: Mr. Tyson Sackett, Acting Wyoming Coal Coordinator, at (307) 775-6487, or Ms. Sarah Bucklin, EIS Project Manager, at (307) 261-7541. Mr. Sackett's office is located at the BLM Wyoming State Office, 5353 Yellowstone Road, Cheyenne, Wyoming 82009. Ms. Bucklin's office is located at the BLM High Plains District Office, 2987 Prospector Drive, Casper, Wyoming 82604. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The ROD covered by this Notice of Availability is for the South Porcupine Coal Tract and addresses leasing Federal coal in Campbell County, Wyoming, administered by the BLM Wyoming High Plains District Office. The BLM approves Alternative 2, which is the preferred alternative for this LBA in the Wright Area Coal Final EIS. Under Alternative 2, the South Porcupine Coal LBA area, as modified by the BLM, includes approximately 3,243 acres. The BLM estimates that it contains approximately 401,830,508 tons of mineable Federal coal reserves under the selected configuration.

The BLM will announce a competitive coal lease sale in the Federal Register at a later date. The Environmental Protection Agency published a Federal Register notice announcing that the Final EIS was publicly available on July 30, 2010 (75 FR 44951).

This decision is subject to appeal to the Interior Board of Land Appeals (IBLA), as provided in 43 CFR part 4, within thirty (30) days from the date of publication of this Notice of Availability in the Federal Register. The ROD contains instructions for filing an appeal with the IBLA.

Donald A. Simpson,
State Director.

[FR Doc. 2011-20936 Filed 8-17-11; 8:45 am]

BILLING CODE 4310-22-P